Title 3—

The President

Proclamation 7717 of October 8, 2003

National Domestic Violence Awareness Month, 2003

By the President of the United States of America

A Proclamation

Across our country, domestic violence traumatizes victims, endangers children, harms families, and threatens communities. According to the most recent report from the Department of Justice, there were almost 700,000 incidents of domestic violence in 2001. Approximately one-third of women who are murdered each year are killed by their current or former husband or partner. Children who are subjected to domestic violence too often grow up to inflict violence on others, creating a cycle of violence that must be stopped. During National Domestic Violence Awareness Month, we renew our Nation's commitment to prevent and punish the perpetrators of this despicable crime and bring hope and healing to those affected by it.

In some communities across our country, law enforcement, medical, and legal services for domestic violence victims are fragmented, requiring victims to travel to several different places to receive the help and treatment they need. Comprehensive service centers for domestic violence victims and their dependents enable health and justice professionals to better serve those in need. My Administration supports efforts to provide a wide variety of victim services in one location, including medical care, counseling and social services, law enforcement and legal resources, faith-based services, employment assistance, and housing assistance.

Local nonprofit and faith-based programs and their volunteers also offer critical assistance and support to victims in need—help that may not otherwise be available. In August of this year, the dedicated advocates at the Federally supported National Domestic Violence Hotline answered their one millionth call for help. Volunteers who want to help victims in the local community can find more information at the USA Freedom Corps Volunteer Network (located at www.usafreedomcorps.gov).

My Administration is fighting domestic violence and strengthening services for victims and their dependents by supporting local and private efforts and securing historic levels of funding for the Violence Against Women programs at the Department of Justice. In fiscal year 2002, we spent $390 million to prevent domestic violence and help victims, which represented an approximately $100 million increase in funding. Since then, we have continued to provide a similar level of funding, and cities and towns across America are using this money to strengthen their responses to the victims of domestic violence, sexual assault, and stalking. The Federal commitment to domestic violence has made it possible for women to seek relief from abuse and reclaim their dignity and their lives. Moreover, Federal prosecutions in cases involving violence against women increased by 35 percent in 2002.

Today is the first day of issue for the U.S. Postal Service Stop Family Violence postage stamp, which will raise money to support the national fight against domestic violence. On behalf of families and communities across America, I call on all citizens to help raise public awareness about how to prevent, recognize, and stop domestic violence. I applaud the commitment of all those who are helping to improve the lives of domestic violence survivors and their families. Working together, we can continue to find better solutions to this national problem.

NOW, THEREFORE, I, GEORGE W. BUSH, President of the United States of America, by virtue of the authority vested in me by the Constitution and laws of the United States, do hereby proclaim October 2003 as National Domestic Violence Awareness Month. I urge all Americans to help victims of domestic violence and to work together to address this tragic problem.

IN WITNESS WHEREOF, I have hereunto set my hand this eighth day of October, in the year of our Lord two thousand three, and of the Independence of the United States of America the two hundred and twenty-eighth.

B

[FR Doc. 03-26007

Filed 10-10-03; 8:45 am]

Billing code 3195-01-P